DEPARTMENT OF TRANSPORTATION

Federal Aviation Administration

Third Meeting: RTCA Special Committee 227, Standards of Navigation Performance, (Joint With EUROCAE WG-85)

AGENCY: Federal Aviation Administration (FAA), U.S. Department of Transportation (DOT).

ACTION: Meeting Notice of RTCA Special Committee 227, Standards of Navigation Performance, (Joint with EUROCAE WG-85).

SUMMARY: The FAA is issuing this notice to advise the public of the third meeting of RTCA Special Committee 227, Standards of Navigation Performance, (Joint with EUROCAE WG-85).

DATES: The meeting will be held September 17-21, 2012, from 9:00 a.m.-5:00 p.m.

ADDRESSES: The meeting will be held at EUROCONTROL Headquarters, Rue de la Fusee 96. 1130 Brussels, Belgium.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 227. The agenda will include the following:

September 17-21, 2012

• Welcome/Introduction/Administrative Remarks

• Agenda Overview

• Review Minutes and Action Items

• Update/Approve Minutes

• Review of Planned Work Program for the Week, with Plenary Break-out Sessions

• Review/Discussion of MASPS Action Items and Proposed Updates

• Other Business

• Establish Agenda for Next Meeting

• Date, Place, and Time of Next Meeting

• Plenary Adjourns

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 14, 2012.
David Sicard,
Manager, Business Operations Group, Federal Aviation Administration.

[FR Doc. 2012-20452 Filed 8-20-12; 8:45 am]

BILLING CODE 4910-13-P